DEPARTMENT OF COMMERCE

National Oceanic and Atmospheric Administration

RIN 0648-XE889

Nominations to the Marine Mammal Scientific Review Groups

AGENCY: National Marine Fisheries Service (NMFS), National Oceanic and Atmospheric Administration (NOAA), Commerce.

ACTION: Notice; request for nominations.

SUMMARY: As required by the Marine Mammal Protection Act (MMPA), the Secretary of Commerce established three independent regional scientific review groups (SRGs) to provide advice on a range of marine mammal science and management issues. NMFS has conducted a membership review of the Alaska, Atlantic, and Pacific SRGs, and is soliciting nominations for new members to fill vacancies and gaps in expertise. Nominees should possess demonstrable expertise in the areas specified in this notice, be able to conduct thorough scientific reviews of marine mammal science, and be able to fulfill the necessary time commitments associated with a thorough review of documents and to attend one annual meeting.

DATES: Nominations must be received by October 31, 2016.

ADDRESSES: Nominations can be emailed to Shannon.Bettridge@noaa.gov, or mailed to: Chief, Marine Mammal and Sea Turtle Conservation Division, Office of Protected Resources, National Marine Fisheries Service, 1315 East-West Highway, Silver Spring, MD 20910-3226, Attn: SRGs.

FOR FURTHER INFORMATION CONTACT: Shannon Bettridge, Office of Protected Resources, 301-427-8402, Shannon.Bettridge@noaa.gov. Information about the SRGs is available at http://www.nmfs.noaa.gov/pr/sars/group.htm.

SUPPLEMENTARY INFORMATION: Section 117(d) of the MMPA (16 U.S.C. 1386(d)) directs the Secretary of Commerce to establish three independent regional SRGs to advise the Secretary (authority delegated to NMFS). The Alaska SRG advises on marine mammals that occur in waters off Alaska that are under the jurisdiction of the United States. The Pacific SRG advises on marine mammals that occur in waters off the U.S. West Coast, Hawaiian Islands, and the U.S. Territories in the Central and Western Pacific that are under the jurisdiction of the United States. The Atlantic SRG advises on marine mammals that occur in waters off the Atlantic coast, Gulf of Mexico, and U.S. Territories in the Caribbean that are under the jurisdiction of the United States.

SRGs members are highly qualified individuals with expertise in marine mammal biology and ecology, population dynamics and modeling, commercial fishing technology and practices, and stocks taken under section 101(b) of the MMPA. The SRGs provide expert reviews of draft marine mammal stock assessment reports and other information related to the matters identified in section 117(d)(1) of the MMPA, including:

A. Population estimates and the population status and trends of marine mammal stocks;

B. Uncertainties and research needed regarding stock separation, abundance, or trends, and factors affecting the distribution, size, or productivity of the stock;

C. Uncertainties and research needed regarding the species, number, ages, gender, and reproductive status of marine mammals;

D. Research needed to identify modifications in fishing gear and practices likely to reduce the incidental mortality and serious injury of marine mammals in commercial fishing operations;

E. The actual, expected, or potential impacts of habitat destruction, including marine pollution and natural environmental change, on specific marine mammal species or stocks, and for strategic stocks, appropriate conservation or management measures to alleviate any such impacts; and

F. Any other issue which the Secretary or the groups consider appropriate.

SRG members collectively serve as independent advisors to NMFS and the U.S. Fish and Wildlife Service and provide their expert review and recommendations through participation in the SRG. Members attend annual meetings and undertake activities as independent persons providing expertise in their subject areas. Members are not appointed as representatives of professional organizations or particular stakeholder groups, including government entities, and are not permitted to represent or advocate for those organizations, groups or entities during SRG meetings, discussions and deliberations.

NMFS annually reviews the expertise available on the SRG and identify gaps in the expertise that is needed to provide advice pursuant to section 117(d) of the MMPA. In conducting the reviews, NMFS will attempt to achieve, to the maximum extent practicable, a balanced representation of viewpoints among the individuals on each SRG.

For the Atlantic SRG (including waters off the Atlantic coast, Gulf of Mexico, and U.S. Territories in the Caribbean), NMFS seeks individuals with expertise in one or more of the following areas: Ecological statistics, with emphasis in line-transect theory, abundance estimation, trend analysis, and/or marine mammal bycatch estimation; marine mammal health; fisheries gear and technologies; and pinnipeds.

For the Pacific SRG (including waters off the Pacific coast, Hawaiian Islands and the U.S. Territories in the Central and Western Pacific), NMFS seeks individuals with expertise in one or more of the following areas: Bycatch estimation; quantitative ecology, population dynamics, modeling, and statistics; fishing gear/techniques, particularly for Hawaii and Pacific Islands fisheries; genetics and/or other methods of identifying marine mammal population structure; passive acoustics; abundance estimation, especially distance sampling and mark-recapture methods; and southern sea otters.

For the Alaska SRG, NMFS seeks individuals with expertise in one or more of the following areas: Genetics/population structure; quantitative ecology, modeling, and population dynamics; acoustics; fishing gear and practices; anthropogenic impacts; and ice-associated or Arctic species.

Nominations for new members should be sent to (see ADDRESSES) and must be received by October 31, 2016. Nominations should be accompanied by the individual's curriculum vitae and detailed information regarding how the recommended person meets the minimum selection criteria for SRG members (see below), and how the recommended person would bring needed expertise to the group. Self-nominations are acceptable. The following contact information should accompany each nomination: Nominee's name, address, telephone number, and email address.

When reviewing nominations, NMFS will consider the following criteria:

(1) Ability to make time available for the purposes of the SRG;

(2) Knowledge of the species (or closely related species) of marine mammals in the SRG's region;

(3) Scientific or technical achievement in a relevant discipline, particularly the areas of expertise identified above, to be considered an expert peer reviewer for the topic;

(4) Demonstrated experience working effectively on teams;

(5) Expertise relevant to current and expected needs of the SRG, in particular, expertise required to provide adequate review and knowledgeable feedback on current or developing stock assessment issues, techniques, etc. In practice, this means that each member should have expertise in more than one topic as the species and scientific issues discussed in SRG meetings are diverse; and

(6) No conflict of interest with respect to their duties as a member of the SRG.

An SRG member cannot be a registered Federal lobbyist. Membership is voluntary, and except for reimbursable travel and related expenses, service is without pay. The term of service for SRG members is three years and members may serve up to three consecutive terms if reappointed.

Dated: September 26, 2016.
Donna S. Wieting,
Director, Office of Protected Resources, National Marine Fisheries Service.

[FR Doc. 2016-23540 Filed 9-28-16; 8:45 am]

BILLING CODE 3510-22-P